DEPARTMENT OF ENERGY

Federal Energy Regulatory Commission

[Docket Nos. IC18-5-000]

Commission Information Collection Activities; (FERC-917 & FERC-918) Comment Request; Extension

AGENCY: Federal Energy Regulatory Commission, DOE.

ACTION: Notice of information collections and request for comments.

SUMMARY: In compliance with the Paperwork Reduction Act of 1995, the Federal Energy Regulatory Commission (Commission or FERC) is soliciting public comment on the information collections, FERC-917 (Electric Transmission Facilities) and FERC-918 (Standards for Business Practices and Communication Protocols for Public Utilities, both under OMB Control No. 1902-0233.

DATES: Comments on the collection of information are due April 9, 2018.

ADDRESSES: You may submit comments (identified by Docket No. IC18-5-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-917 (Electric Transmission Facilities) and FERC-918 (Standards for Business Practices and Communication Protocols for Public Utilities.

OMB Control No.: 1902-0233.

Type of Request: Three-year extension of the FERC-917 and FERC-918 information collection requirements with no changes to the current reporting requirements.

Abstract: On February 17, 2007, the Commission issued Order No. 890 to address and remedy opportunities for undue discrimination under the pro forma Open Access Transmission Tariff (OATT) adopted in 1996 by Order No. 888.¹ Through Order No. 890, the Commission:

¹ Promoting Wholesale Competition Through Open Access Non-discriminatory Transmission Services by Public Utilities; Recovery of Stranded Costs by Public Utilities and Transmitting Utilities, Order No. 888, 61 FR 21540 (May 10, 1996), FERC Stats. & Regs. ¶ 31,036 (1996), order on reh'g, Order No. 888-A, 62 FR 12274 (Mar. 14, 1997), FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group v. FERC, 225 F.3d 667 (DC Cir. 2000), aff'd sub nom. New York v. FERC, 535 U.S. 1 (2002).

(1) Adopted pro forma OATT provisions necessary to keep imbalance charges closely related to incremental costs;

(2) Increased nondiscriminatory access to the grid by requiring public utilities, working through the North American Electric Reliability Corporation (NERC), to develop consistent methodologies for available transfer capability (ATC) calculation and to publish those methodologies to increase transparency.

(3) Required an open, transparent, and coordinated transmission planning process thereby increasing the ability of customers to access new generating resources and promote efficient utilization of transmission.

(4) Gave the right to customers to request from transmission providers, studies addressing congestion and/or integration of new resource loads in areas of the transmission system where they have encountered transmission problems due to congestion or where they believe upgrades and other investments may be necessary to reduce congestion and to integrate new resources.

(5) Required both the transmission provider's merchant function and network customers to include a statement with each application for network service or to designate a new network resource that attests, for each network resource identified, that the transmission customer owns or has committed to purchase the designated network resource and the designated network resource comports with the requirements for designated network resources. The network customer includes this attestation in the customer's comment section of the request when it confirms the request on the Open Access Same-Time Information System (OASIS).

(6) Required with regard to capacity reassignment that: (a) All sales or assignments of capacity be conducted through or otherwise posted on the transmission provider's OASIS on or before the date the reassigned service commences; (b) assignees of transmission capacity execute a service agreement prior to the date on which the reassigned service commences; and (c) transmission providers aggregate and summarize in an electric quarterly report the data contained in these service agreements.

(7) Adopted an operational penalties annual filing that provides information regarding the penalty revenue the transmission provider has received and distributed.

(8) Required creditworthiness information to be included in a transmission provider's OATT. Attachment L must specify the qualitative and quantitative criteria that the transmission provider uses to determine the level of secured and unsecured credit required.

The Commission required a NERC/NAESB ² team to draft and review Order No. 890 reliability standards and business practices. The team was to solicit comment from each utility on developed standards and practices and utilities were to implement each, after Commission approval. Public utilities, working through NERC, were to revise reliability standards to require the exchange of data and coordination among transmission providers and, working through NAESB, were to develop complementary business practices.

² NAESB is the North American Energy Standards Board.

Required OASIS postings included:

(1) Explanations for changes in ATC values;

(2) Capacity benefit margin (CBM) reevaluations and quarterly postings;

(3) OASIS metrics and accepted/denied requests;

(4) Planning redispatch offers and reliability redispatch data;

(5) Curtailment data;

(6) Planning and system impact studies;

(7) Metrics for system impact studies;

(8) All rules.

Incorporating the Order No. 890 standards into the Commission's regulations benefits wholesale electric customers by streamlining utility business practices, transactional processes, and OASIS procedures, and by adopting a formal ongoing process for reviewing and upgrading the Commission's OASIS standards and other electric industry business practices. These practices and procedures benefit from the implementation of generic industry standards.

The Commission's Order No. 890 regulations can be found in 18 CFR 35.28 (pro forma tariff requirements), and 37.6 and 37.7 (OASIS requirements).

Action: The Commission is requesting a three-year extension of the current FERC-917 and FERC-918 (Order No. 890) reporting requirements, with no change to the existing requirements.

Burden Statement: The FERC-917 and FERC-918 information collections are both approved under the OMB Control Number 1902-0233. The estimated annual public reporting burdens for FERC-917 (requirements in 18 CFR 35.28) and FERC-918 (requirements in 18 CFR 37.6 and 37.7) are reduced from the original estimates made three years ago. The reductions are due to the incorporation and completion of: (1) One-time pro forma tariff and standards changes by utilities in existence at that time, which would not be needed unless the tariff and/or standards are changed again; and (2) completed development and comment solicitation of the required NERC/NAESB reliability standards and business practices. The other activities are annual ongoing requirements. The estimated annual figures follow.

³ Burden is defined as the total time, effort, or financial resources expended by persons to generate, maintain, retain, or disclose or provide information to or for a Federal agency. For further explanation of what is included in the information collection burden, refer to 5 Code of Federal Regulations 1320.3.

FERC information collection | Annual Number of respondents | Average Number of reponses per respondent | Average burden ³ hours per response | Total annual burden hours
| (1) | (2) | (3) | (1) × (2) × (3)
18 CFR 35.28 (FERC-917)
Conforming tariff changes | 0 | 0 | 0 | 0
Revision of Imbalance Charges | 0 | 0 | 0 | 0
ATC revisions | 0 | 0 | 0 | 0
Planning (Attachment K) | 134 | 1 | 100 | 13,400
Congestion studies | 134 | 1 | 300 | 40,200
Attestation of network resource commitment | 134 | 1 | 1 | 134
Capacity reassignment | 134 | 1 | 100 | 13,400
Operational Penalty annual filing | 134 | 1 | 10 | 1,340
Creditworthiness—include criteria in the tariff | 0 | 0 | 0 | 0
FERC-917—Sub Total Part 35 |  |  |  | 68,474
18 CFR 37.6 & 37.7 (FERC-918)
ATC-related standards:
NERC/NAESB Team to develop | 0 | 0 | 0 | 0
Review and comment by utility | 0 | 0 | 0 | 0
Implementation by each utility | 0 | 0 | 0 | 0
Mandatory data exchanges | 134 | 1 | 80 | 10,720
Explanation of change of ATC values | 134 | 1 | 100 | 13,400
Reevaluate CBM and post quarterly | 134 | 1 | 20 | 2,680
Post OASIS metrics; requests accepted/denied | 134 | 1 | 90 | 12,060
Post planning redispatch offers and reliability redispatch data | 134 | 1 | 20 | 2,680
Post curtailment data | 134 | 1 | 10 | 1,340
Post Planning and System Impact Studies | 134 | 1 | 5 | 670
Posting of metrics for System Impact Studies | 134 | 1 | 100 | 13,400
Post all rules to OASIS | 134 | 1 | 5 | 670
FERC-918—Recordkeeping Requirements | 134 | 1 | 40 | 5,360
FERC-918 -Sub Total of Part 37 Reporting Requirements |  |  |  | 57,620
FERC-918—Sub Total of Reporting and Recordkeeping Requirements |  |  |  | 62,980
Total FERC-917 and FERC-918 (Part 35 + Part 37, Reporting and Recordkeeping Requirements) |  |  |  | 131,454

Total combined annual burden for FERC-917 and FERC-918 is 131,454 hours (126,094 reporting hours + 5,360 recordkeeping hours). This is a reduction of 28,300 hours from the combined FERC-917 and FERC-918 burden OMB previously approved.

Total combined estimated annual cost for FERC-917 and FERC-918 is $131,454 ⁴. This includes:

⁴ The Commission staff thinks that the average respondent for this collection is similarly situated to the Commission, in terms of salary plus benefits. Based upon FERC's 2017 annual average of $158,754 (for salary plus benefits), the average hourly cost is $76.50/hour.

(1) Reporting costs of $10,339,708; ⁵ (126,094 hours @$82.00 an hour (average cost of attorney ($143.68 per hour), consulting ($89.00), management Analyst ($63.49), and administrative support ($40.89)) and

⁶ This wage figure uses the weighted hourly average wage (plus benefits) for Legal (Occupation Code: 23-0000), management, scientific, and consulting (Occupation Code: 11-0000), management analyst (Occupation Code: 13-1111), Administrative Support (43-0000) and File Clerk (Occupation Code: 43-4071) obtained from the Bureau of Labor Statistics. Uses the hourly average wage (plus benefits) for file clerks obtained from the Bureau of Labor Statistics: $32.74/hour (BLS Occupation Code: 43-4071).

(2) Recordkeeping (labor and storage) costs of $7,575,486.40; (labor = $175,486.40; 5,360 hours × $32.74/hour ⁷ (file/record clerk @$32.74 an hour) and off-site storage costs = $7,400,000; (8,000 sq. ft. × $925/sq. ft.).

The reporting burden includes the total time, effort, or financial resources expended to generate, maintain, retain, disclose, or provide the information including: (1) Reviewing instructions; (2) developing, acquiring, installing, and utilizing technology and systems for the purposes of collecting, validating, verifying, processing, maintaining, disclosing, and providing information; (3) adjusting the existing ways to comply with any previously applicable instructions and requirements; (4) training personnel to respond to the collections of information; (5) searching data sources; (6) completing and reviewing the collections of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Dated: January 31, 2018.
Kimberly D. Bose,
Secretary.

[FR Doc. 2018-02323 Filed 2-5-18; 8:45 am]

BILLING CODE 6717-01-P